ADVISORY COUNCIL ON HISTORIC PRESERVATION

Meeting

AGENCY: Advisory Council on Historic Preservation.

ACTION: Notice of meeting.

SUMMARY: Notice is hereby given that the Advisory Council on Historic Preservation (ACHP) will meet on Tuesday, May 4, 2004. The meeting will be held in Room M-09 at the Old Post Office Building, 1100 Pennsylvania Avenue, NW., Washington, DC, beginning at 9 a.m.

The ACHP was established by the National Historic Preservation Act of 1966 (16 U.S.C. 470 et seq.) to advise the President and the Congress on matters relating to historic preservation and to comment upon Federal, federally assisted, and federally licensed undertakings having an effect upon properties listed in or eligible for inclusion in the National Register of Historic Places. The ACHP's members are the Architect of the Capitol; the Secretaries of the Interior, Agriculture, Defense, and Transportation; the Administrators of the Environmental Protection Agency and General Services Administration; the Chairman of the National Trust for Historic Preservation; the President of the National Conference of State Historic Preservation Officers; a Governor; a Mayor; a Native Hawaiian; and eight non-Federal members appointed by the President.

The agenda for the meeting includes the following:

I. Chairman's Welcome

II. Preserve America Program Development

III. Preserve America Executive Order Implementation

IV. Report of the Executive Committee

Adoption of amendments to section 106 regulations

V. Report of the Preservation Initiatives Committee

VI. Report of the Federal Agency Programs Committee

VII. Report of the Communications, Education, and Outreach Committee

VIII. Chairman's Report

IX. Executive Director's Report

X. New Business

XI. Adjourn

Note: The meetings of the ACHP are open to the public. If you need special accommodations due to a disability, please contact the Advisory Council on Historic Preservation, 1100 Pennsylvania Ave., NW., Room 809, Washington, DC, 202-606-8503, at least seven (7) days prior to the meeting.

For further information: Additional information concerning the meeting is available from the Executive Director, Advisory Council on Historic Preservation, 1100 Pennsylvania Avenue, NW., #809, Washington, DC 20004.

April 23, 2004.
John M. Fowler,
Executive Director.

[FR Doc. 04-9597 Filed 4-27-04; 8:45 am]

BILLING CODE 4310-10-M